DEPARTMENT OF COMMERCE

National Oceanic and Atmospheric Administration

50 CFR Part 622

[Docket No. 200124-0029; RTID 0648-XE854]

RTID 0648-XE854

2025 Red Snapper Private Angling Component Accountability Measure in Federal Waters Off Louisiana

AGENCY: National Marine Fisheries Service (NMFS), National Oceanic and Atmospheric Administration (NOAA), Commerce.

ACTION: Temporary rule, accountability measure.

SUMMARY: Based on information provided by the Louisiana Department of Wildlife and Fisheries (LDWF), NMFS has determined that reported landings from Louisiana exceeded the state's 2024 regional management area private angling component annual catch limit (ACL) for Gulf red snapper. Therefore, NMFS reduces the Louisiana 2025 private angling component ACL. This reduction will remain in effect through the remainder of the current fishing year on December 31, 2025.

DATES: This temporary rule is effective from 12:01 a.m., local time, on May 6, 2025, until 12:01 a.m., local time, on January 1, 2026.

FOR FURTHER INFORMATION CONTACT: Frank Helies, NMFS Southeast Regional Office, 727-824-5305, frank.helies@noaa.gov.

SUPPLEMENTARY INFORMATION: NMFS manages the Gulf reef fish fishery, which includes red snapper, under the Fishery Management Plan for the Reef Fish Resources of the Gulf (FMP). The Gulf Council prepared the FMP, which was approved by the Secretary of Commerce, and NMFS implements the FMP through regulations at 50 CFR part 622 under the authority of the Magnuson-Stevens Fishery Conservation and Management Act (Magnuson-Stevens Act). All red snapper weights discussed in this temporary rule are in round weight.

Through this temporary rule, NMFS implements accountability measures for the red snapper recreational sector private angling component in the Gulf of America (Gulf) off Louisiana for the 2025 fishing year. Executive Order 14172, “Restoring Names That Honor American Greatness” (Jan. 20, 2025), directs that the Gulf of Mexico be renamed the Gulf of America. Consistent with the order, this action uses Gulf of America to refer the area known as the Gulf of Mexico in the specific regulations at 50 CFR part 622.

In 2015, Amendment 40 to the FMP established two components within the recreational sector fishing for red snapper: the private angling component, and the Federal charter vessel and headboat (for-hire) component (80 FR 22422, April 22, 2015). In 2020, NMFS implemented Amendments 50 A-F to the FMP, which delegated authority to the Gulf states (Alabama, Florida, Louisiana, Mississippi, and Texas) to establish specific management measures for the harvest of red snapper in Federal waters of the Gulf by the private angling component of the recreational sector (85 FR 6819, February 6, 2020). These amendments allocated a portion of the private angling ACL to each state, and each state is required to constrain landings to its allocation as part of state management. The Louisiana regional management area private angling component ACL is 934,587 lb (423,922 kg) (50 CFR 622.23(a)(1)(ii)(A)).

Regulations at 50 CFR 622.23(b) require that if a state's red snapper private angling component landings exceed the applicable state's component ACL, then in the following fishing year, that state's private angling ACL will be reduced by the amount of that ACL overage in the prior fishing year. Based on data provided by the LDWF, NMFS has determined that 2024 landings of red snapper from Louisiana for the private angling component, which includes landings for state charter vessels, were 974,219 lb (441,898 kg); which is 39,632 lb (17,977 kg) greater than the 2024 Louisiana ACL of 934,587 lb (423,922 kg). Accordingly, for the 2025 fishing year, this temporary rule reduces the Louisiana 2025 ACL by the amount of the 2024 overage. This reduction results in a revised 2025 private angling ACL for Louisiana of 894,955 lb (405,945 kg). The LDWF is responsible for ensuring that 2025 private angling component landings in the state's regional management area do not exceed the adjusted 2025 Louisiana ACL.

The recreational private angling component ACLs for the other Gulf state management areas for 2025 are unaffected by this temporary rule. The reduction in the 2025 red snapper private angling component ACL for the Louisiana regional management area is effective at 12:01 a.m., local time, on May 6, 2025, and will remain in effect until 12:01 a.m., local time, on January 1, 2026.

Classification

NMFS issues this action pursuant to section 305(d) of the Magnuson-Stevens Act. This action is required under 50 CFR 622.23(b) which was issued pursuant to section 304(b) of the Magnuson-Stevens Act, and is exempt from review under Executive Order 12866.

Pursuant to 5 U.S.C. 553(b)(B), there is good cause to waive prior notice and opportunity for public comment on this action. Such procedures are unnecessary because the rule implementing the post-season ACL adjustment authority has already been subject to notice and comment, and all that remains is to notify the public of the ACL overage adjustment to reduce the private angling component ACLs for the Louisiana regional management area. Such procedures are contrary to the public interest because a failure to implement the ACL overage adjustment immediately may result in confusion among the public about what ACL is in effect for Louisiana for the 2025 fishing year. This action is based on the best scientific information available.

For the aforementioned reasons, there is also good cause to waive the 30-day delay in the effectiveness of the action under 5 U.S.C. 553(d)(3).

Authority: 16 U.S.C. 1801 et seq.

Dated: May 1, 2025.
Kelly Denit,
Director, Office of Sustainable Fisheries, National Marine Fisheries Service.

[FR Doc. 2025-07884 Filed 5-5-25; 8:45 am]

BILLING CODE 3510-22-P